DEPARTMENT OF COMMERCE

National Oceanic and Atmospheric Administration

RIN: 0648-XD18

Pacific Fishery Management Council; Public Meeting; Correction

AGENCY: National Marine Fisheries Service (NMFS), National Oceanic and Atmospheric Administration (NOAA), Commerce.

ACTION: Notice of a public meeting.

SUMMARY: There has been a change in location of the previously noticed Pacific Fishery Management Council's (Council) Salmon Technical Team (STT), Scientific and Statistical Committee (SSC) Salmon Subcommittee, and Model Evaluation Workgroup (MEW) joint work session, which is open to the public.

DATES: The work session will be held Wednesday, October 24, 2007, from 10 a.m. to 5 p.m. and Thursday, October 25, 2007, from 9 a.m. to 4 p.m.

ADDRESSES: The work session will be held at the Sheraton Portland Airport Hotel, Cascade Ballroom, 8235 NE Airport Way, Portland, OR 97220; telephone: (800) 808-9497

Council address: Pacific Fishery Management Council, 7700 NE Ambassador Place, Suite 101, Portland, OR 97220-1384.

FOR FURTHER INFORMATION CONTACT: Mr. Chuck Tracy, Salmon Management Staff Officer, Pacific Fishery Management Council; telephone: (503) 820-2280.

SUPPLEMENTARY INFORMATION: This notice specifies a change of address for the work session from the Council office to the Sheraton Portland Airport Hotel Cascade Ballroom, 8235 NE Airport Way, Portland, OR 97220; telephone: (800) 808-9497.

The original notice published in the Federal Register on October 9, 2007 (72 FR 57310).

The purpose of the work session is to brief the STT and SSC Salmon Subcommittee on proposed changes to methods and standards used to manage ocean salmon fisheries, review a genetic stock identification research and exempted fishing permit proposal, and to review proposed modifications to the Chinook and Coho Fishery Regulation Assessment Models (FRAM).

Although non-emergency issues not contained in the meeting agenda may come before the STT, SSC Salmon Subcommittee, and MEW for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 820-2280 at least 5 days prior to the meeting date.

Dated: October 15, 2007.
Tracey L. Thompson,
Acting Director, Office of Sustainable Fisheries, National Marine Fisheries Service.

[FR Doc. E7-20561 Filed 10-17-07; 8:45 am]

BILLING CODE 3510-22-S